DEPARTMENT OF AGRICULTURE

Forest Service

DEPARTMENT OF THE INTERIOR

Bureau of Land Management

[OR-930-6334 DT-COMP, HA604-0068]

To Remove or Modify the Survey and Manage Mitigation Measure Standards and Guidelines

AGENCIES: Forest Service, USDA; Bureau of Land Management, USDI.

ACTION: Notice of availability of the Final Supplemental Environmental Impact Statement (FSEIS) to remove or modify the survey and manage mitigation measure standards and guidelines.

SUMMARY: The Forest Service and Bureau of Land Management (BLM) (collectively the Agencies) have prepared a FSEIS. The Agencies are supplementing the analyses contained in the FSEIS (2000) for amendment to the survey and manage, protection buffer, and other mitigation measures standards and guidelines, and the FSEIS (1994) for amendments to Forest Service and Bureau of Land Management planning documents within the range of the Northern Spotted Owl.

The FSEIS is now available to the public. Requests to receive copies of the FSEIS should be sent to the address listed below. Alternately, the FSEIS is available on the Internet at www.or.blm.gov/nwfpnepa.

DATES: Publication of the Environmental Protection Agency (EPA) notice of availability and filing of the FSEIS in the Federal Register initiates a 30-day availability period. This 30-day availability period is not a comment period.

ADDRESSES: To request copies of the document, or add your name to the mailing list, contact: Survey and Manage FSEIS, 333 SW., First Avenue, P.O. Box 2965, Portland, Oregon 97208; fax: (503) 326-2396 (please address fax to: “Survey and Manage FSEIS”).

FOR FURTHER INFORMATION CONTACT: Jerry Hubbard, Survey and Manage FSEIS Team Logistics Coordinator; telephone (503) 326-2355; or e-mail: oregon_smnepa_mail@or.blm.gov.

SUPPLEMENTARY INFORMATION: A limited number of individual copies of the Draft SEIS may also be obtained by contacting Jerry Hubbard. Copies are also available for inspection at public libraries and Forest Service or BLM offices in western Washington, western Oregon, and northwestern California.

Three alternatives, including no action, are considered in detail in the FSEIS. The preferred alternative is Alternative 2. The preferred alternative would remove the survey and manage mitigation measure and the Agencies would rely on other elements of the Northwest Forest Plan and their existing Special Status Species Programs to conserve rare species. A decision to select one of the action alternatives would amend the management direction in all 28 Forest Service land and resource management plans and BLM resource management plans in the Northwest Forest Plan area.

Readers should note that the Secretary of Agriculture and the Secretary of the Interior are the responsible officials for this proposed action.

Therefore, no administrative review (“appeal”) through the Forest Service will be available on the Record of Decision under 36 CFR part 217, and no administrative review (“protest”) through the BLM will be available on the proposed decision under 43 CFR 1610.5-2. Because there is no administrative review of the decision, the record of decision will not be signed for a minimum of 30 days after the EPA notice of availability of this FSEIS appears in the Federal Register.

Dated: January 14, 2004.
A. Barron Bail,
Associate State Director, Oregon and Washington, Bureau of Land Management.
Dated: January 14, 2004.
Linda Goodman,
Regional Forester, Pacific Northwest Region, Forest Service.

[FR Doc. 04-1293 Filed 1-22-04; 8:45 am]

BILLING CODE 4310-33-P